DEPARTMENT OF JUSTICE

Antitrust Division

Notice Pursuant to the National Cooperative Research and Production Act of 1993—International Institute of Ammonia Refrigeration

Notice is hereby given that, on September 20, 2004, pursuant to section 6(a) of the National Cooperative Research and Production Act of 1993, 15 U.S.C. 4301 et seq. (“the Act”), International Institute of Ammonia Refrigeration (“IIAR”) has filed written notifications simultaneously with the Attorney General and the Federal Trade Commission disclosing (1) the name and principal place of business of the standard development organization and (2) the nature and scope of its standards development activities. The notifications were filed for the purpose of invoking the Act's provisions limiting the recovery of antitrust plaintiffs to actual damages under specified circumstances.

Pursuant to section 6(b) of the Act, the name and principal place of business of the standards development organization is: International Institute of Ammonia Refrigeration, Arlington, VA. The nature and scope of IIAR's standards development activities are: To develop, plan, establish, coordinate and publish voluntary consensus standards applicable to the field of the design, construction, installation and use of ammonia mechanical refrigeration systems. Specifically, IIAR develops, plans, establishes, coordinates and publishes voluntary consensus standards in the form of industry standards, technical bulletins, and regulatory guidelines covering topics including equipment, design and installation of ammonia mechanical refrigeration systems; product integrity of ammonia refrigeration valves and strainers; training guidelines for operators of ammonia refrigerating systems; technical guidance addressing topics such as good practices, safety procedures and information, operating procedures, water contamination, and machinery room ventilation; and guidelines for compliance with regulatory requirements governing Process Safety Management and Risk Management.

Dorothy B. Fountain,
Deputy Director of Operations, Antitrust Division.

[FR Doc. 04-25070 Filed 11-9-04; 8:45 am]

BILLING CODE 4410-11-M